DEPARTMENT OF AGRICULTURE

Animal and Plant Health Inspection Service

[Docket No. APHIS-2006-0052]

National Animal Identification System; Notice of Web Conference Training Sessions for Animal Identification Number Managers and Resellers

AGENCY: Animal and Plant Health Inspection Service, USDA.

ACTION: Notice.

SUMMARY: We are informing producers and other stakeholders who plan to participate in the distribution of animal identification number (AIN) tags of the availability of additional training, via Web conferences, so that they can prepare to participate in this component of the National Animal Identification System (NAIS) by becoming AIN managers or resellers. The Web conferences will provide more details about the administration of AIN tags, as well as provide a demonstration of the AIN Management System, the Web-based system for distributing and administering AINs in the NAIS.

DATES: The Web conferences will be conducted on April 13, 2006, and April 26, 2006. Details regarding each event are provided in the SUPPLEMENTARY INFORMATION section of this notice.

FOR FURTHER INFORMATION CONTACT: Mr. Neil Hammerschmidt, NAIS Coordinator, Surveillance and Identification Team, National Center for Animal Health Programs, VS, APHIS, 4700 River Road Unit 200, Riverdale, MD 20737-1231; (301) 734-5571.

SUPPLEMENTARY INFORMATION: As part of ongoing efforts to safeguard animal health, the U.S. Department of Agriculture (USDA) initiated implementation of the National Animal Identification System (NAIS) in 2004. The NAIS is a cooperative State-Federal-industry program administered by USDA's Animal and Plant Health Inspection Service (APHIS). Its long-term goal is to track all animal movements, from birth to harvest, as part of USDA's National Animal Health Monitoring and Surveillance Program.

In order to facilitate the implementation of the NAIS, on November 8, 2004, we published in the Federal Register (69 FR 64644-64651, Docket No. 04-052-1) an interim rule that, among other things, amended the regulations to recognize additional numbering systems for the identification of animals in interstate commerce and State/Federal/industry cooperative disease control and eradication programs and to redefine the numbering system used to identify premises where animals are managed or held. Specifically, the interim rule recognized the animal identification number (AIN) as an official numbering system for the identification of individual animals, the group/lot identification number (GIN) for the identification of groups or lots of animals within the same production system, and the seven-character premises identification number (PIN) for the identification of premises in the NAIS. Use of the new numbering systems was not, however, required as a result of the interim rule. Finally, the interim rule amended the regulations to prohibit the removal of official identification devices and to eliminate potential regulatory obstacles to the recognition of emerging technologies that could offer viable alternatives to existing animal identification devices and methods.

On March 3, 2006, we published a notice in the Federal Register (71 FR 10951-10952, Docket No. APHIS-2005-0117) in which we announced the availability of a document entitled “Administration of Official Identification Devices with the Animal Identification Number,” which expands upon certain aspects of the NAIS that were presented in the Draft Program Standards. The document describes how an AIN may be used in conjunction with official identification devices in the NAIS; provides performance and printing requirements for visual identification tags with AINs and an explanation of the process by which these AIN tags will be authorized for use in the NAIS; presents performance standards for radio frequency identification tags or devices that may be used on cattle or bison to supplement visual AIN tags; and describes the AIN Management System, a Web-based system for distributing and administering AINs in the NAIS, and discusses the roles and responsibilities of key participants in the system.

The animal identification component utilizing the AIN in the voluntary phase of NAIS is now being implemented. Producers who elect to participate in the animal identification component using the AIN must first obtain a PIN.

Under the AIN Management System, animal identification numbers are allocated to companies that manufacture official identification devices or technologies. Other individuals and organizations may perform roles that support the distribution of official identification devices to producers. The complete and accurate recording of the AINs distributed and assigned to each premises is imperative. The AIN Management System allows for many participants in various roles and provides the means to record AIN allocations to manufacturers and distribution to premises.

The AIN Management System is now available to participants (pending authorization of AIN devices). In this notice, we are informing producers and other stakeholders who plan to participate in the distribution of AIN tags of the availability of additional training, via Web conferences, so that they can prepare to participate in this component of NAIS by becoming AIN managers or resellers. The Web conferences will provide more details about the administration of AIN tags, as well as provide a demonstration of the AIN Management System (the Web-based software application).

Two training sessions have been scheduled for April 2006. The visual elements of the training will be presented on the Internet while the audio portion is provided over the telephone. Details for participation in each training session are as follows:

• Date/Time: Thursday, April 13, 2006, at 1 p.m. eastern standard time.

Internet participation at: https://www.mymeetings.com/nc/join/.

Web conference number: PG7717522.

Phone (audio participation): 1-888-566-0007.

Passcode for phone conference: INDUSTRY2.

To access an Internet replay of the event, go to: https://www.mymeetings.com/nc/join.php?i=PG7717522&p=INDUSTRY2&t=r.

The replay of the April 13 event will be available for 30 days, ending May 13, 2006.

• Date/Time: Wednesday, April 26, 2006, at 1 p.m. eastern standard time.

Internet participation at: https://www.mymeetings.com/nc/join/.

Web conference number: PG7717530.

Phone (audio participation): 1-888-566-0007.

Passcode for phone conference: INDUSTRY3.

To access an Internet replay of the event, go to: https://www.mymeetings.com/nc/join.php?i=PG7717530&p=INDUSTRY3&t=r.

The replay of the April 26 event will be available for 30 days, ending May 26, 2006.

Done in Washington, DC, this 4th day of April 2006.
Elizabeth E. Gaston,
Acting Administrator, Animal and Plant Health Inspection Service.

[FR Doc. E6-5085 Filed 4-6-06; 8:45 am]

BILLING CODE 3410-34-P